COMMODITY FUTURES TRADING COMMISSION

Agency Information Collection Activities Under OMB Review

AGENCY: Commodity Futures Trading Commission.

ACTION: Notice.

SUMMARY: In compliance with the Paperwork Reduction Act (44 USC 3501 et seq.), this notice announces that the Information Collection Request (ICR) abstracted below has been forwarded to the Office of Management and Budget (OMB) for review and comment. The ICR describes the nature of the information collection and its expected costs and burden; it includes the actual data collection instruments, if any.

DATES: Comments must be submitted on or before July 24, 2000.

FOR FURTHER INFORMATION OR A COPY CONTACT: Steven A. Grossman at CFTC, (202) 418-5192; FAX: (202) 418-5529; email: sgrossman@cftc.gov and refer to OMB Control No. 3038-0031.

SUPPLEMENTARY INFORMATION: Title: Procurement Contracts (OMB) Control No. 3038-0031). This is a request for extension of a currently approved information collection.

Abstract: The information collected consists of procurement activities relating to solicitations, amendments to solicitations, requests for quotations, construction contracts, awards of contracts, performance bonds, and payment information for individuals (vendors) or contractors engaged in providing supplies or services.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on May 9, 2000 (65 FR 26815).

Burden statement: The respondent burden for this collection is estimated to average 4 hours per response. These estimates include the time needed to review instructions; develop, acquire, install, and utilize technology and systems for the purposes of collection, validating, and verifying information, processing and maintaining information and disclosing and providing information; adjust the existing ways to comply with any previously applicable instructions and requirements; train personnel to be able to respond to a collection of information; and transmit or otherwise disclose the information.

Respondents/Affected Entities: 151.

Estimated number of respondents: 151.

Estimated total annual burden on respondents: 604 hours.

Frequency of collection: On occasion.

Send comments regarding the burden estimate or any other aspect of the information collection, including suggestions for reducing the burden, to the addresses listed below. Please refer to OMB Control No. 3038-0018 in any correspondence.

Steven E. Grossman, U.S. Commodity Futures Trading Commission, 1155 21st Street, NW, Washington, DC 20581.

and

Office of Information and Regulatory Affairs, Office of Management and Budget, Attention: Desk Officer for CFTC, 725 17th Street, Washington, DC 20503.

Dated: June 16, 2000.
Jean A. Webb,
Secretary of the Commission.

[FR Doc. 00-15779 Filed 6-21-00; 8:45 am]

BILLING CODE 6351-01-M